DEPARTMENT OF COMMERCE

National Oceanic and Atmospheric Administration

Addition of Public Review Meetings for the Draft Revised Management Plan for the Hawaiian Islands Humpback Whale National Marine Sanctuary

AGENCY: National Marine Sanctuary Program (NMSP), National Ocean Service (NOS), National Oceanic and Atmospheric Administration (NOAA), Department of Commerce (DOC).

ACTION: Addition of public review meetings.

SUMMARY: The Hawaiian Islands Humpback Whale National Marine Sanctuary was Congressionally designated by the Hawaiian Islands National Marine Sanctuary Act (HINMSA) on November 4, 1992 (Subtitle C of Public Law 102-587, the Oceans Act of 1992). On Friday, March 28, 1997, the final regulations were published in the Federal Register (62 FR 14799), and became effective on June 6, 1997.

At the time of designation, NOAA made a commitment to the State of Hawaii that five years after the management plan and regulations had become effective, NOAA, in consultation with the State of Hawaii, would evaluate the progress made toward implementing the management plan, regulations, and goals for the Sanctuary. NOAA also agreed that after the evaluation was complete, NOAA would then re-submit the management plan and regulations in their entirety, as far as they effect State waters, to the Governor for his approval. The draft revised management plan is the result of the five-year evaluation and will be submitted to the Governor. The draft revised management plan does not propose an regulatory or boundary changes.

The draft revised management plan has been completed and is now available for public review. NOAA will conduct public meetings to gather information and other comments from individuals, organizations, and government agencies on the scope, types, and significance of issues related to the Sanctuary's draft revised management plan. Written comments may also be sent to the address below or via email at hihumpbackwhale@noaa.gov. The public review period will run from March 19 until May 24, 2002. The public meetings are scheduled for May 1-May 9, 2002, and were announced in the Federal Register on Tuesday, March 19 (67 FR 12525). Two additional meetings have now been added for May 21 and May 22.

DATES AND ADDRESSES: Written Comments may be sent to the Naomi McIntosh, Hawaiian Islands Humpback Whale National Marine Sanctuary (Management Plan Review), 6700 Kalanianaole Highway, Suite 104, Honolulu, Hawaii 96825. Comments will be available for public review at the same address. Written comments should be received on or before May 24, 2002. Public meetings already announced will be held on May 1 on Oahu, May 2 on Maui, May 3 on Kauai, and May 8 and 9 on the Big Island of Hawaii (Kona and Hilo respectively). The two new public meetings will be on May 21 on Lanai and May 22 on Molokai as follows:

(1) Tuesday, May 21, 6 to 9 p.m., Lanai Public Library, Frazier Avenue, Lanai City, Lanai, Hawaii.

(2) Wednesday, May 22, 6 to 9 p.m., Mitchell Pauole Center, 90 Ainoa Street, Kaunakakai, Molokai, Hawaii.

FOR FURTHER INFORMATION CONTACT: Anne Reisewitz, MPR Coordinator, by phone at (808) 397-2651 or via e-mail at Annelore.Reisewitz@noaa.gov.

Authority: 16 U.S.C. Section 1431 et seq., Pub. L. 106-513.

(Federal Domestic Assistance Catalog Number 11.429 Marine Sanctuary Program)
Dated: April 4, 2002.
Margaret A. Davidson,
Acting Assistant Administrator for Ocean Services and Coastal Zone Management.

[FR Doc. 02-8653 Filed 4-10-02; 8:45 am]

BILLING CODE 3510-08-M